FEDERAL COMMUNICATIONS COMMISSION

47 CFR Part 52

[CC Docket No. 99-200; CC Docket No. 96-98; CC Docket No 96-116; FCC 02-73]

Numbering Resource Optimization

AGENCY: Federal Communications Commission.

ACTION: Final rule; clarification.

SUMMARY: In this document, the Federal Communications Commission (FCC or Commission), on its own motion, reconsiders its findings in the Numbering Resource Optimization Third Report and Order, regarding the local number portability (LNP) and thousands-block number pooling requirements for carriers in the 100 largest Metropolitan Statistical Areas (MSAs). Specifically, the Commission reverses its clarification that the requirements extend to all carriers within the largest 100 MSAs, regardless of whether they have received a specific request from another carrier to provide LNP.

FOR FURTHER INFORMATION CONTACT: Pam Slipakoff, (202) 418-7705 or e-mail at pslipako@fcc.gov.

SUPPLEMENTARY INFORMATION: This is a summary of the Commission's Third Order on Reconsideration in CC Docket No. 99-200 (Third Order on Reconsideration), FCC 02-73, adopted on March 13, 2002 and released on March 14, 2002. The full text of this document is available for inspection and copying during normal business hours in the Commission Reference Center, 445 12th Street, SW, Washington, DC 20554. The complete text may also be obtained through the world wide web at http://www.fcc.gov/Bureaus/CommonCarrier/Orders, or may be purchased from the Commission's copy contractor, Qualex International, Portals II, 445 12th Street, SW, Room CY-B402, Washington, DC, 20554, telephone 202-863-2893, facsimile 202-863-2898, or via e-mail at qualexint@aol.com.

Synopsis of the Third Order on Reconsideration in CC Docket No. 99-200

1. On its own motion, the Commission reconsiders its findings in the Numbering Resource Optimization Third Report and Order, 67 FR 6431 (Feb. 12, 2002), regarding the local number portability (LNP) and thousands-block number pooling requirements for carriers in the 100 largest Metropolitan Statistical Areas (MSAs). Specifically, the Commission reverses its clarification that these requirements extend to all carriers within the largest 100 MSAs, regardless of whether they have received a specific request from another carrier to provide LNP.

2. In the Numbering Resource Optimization Third Report and Order, the Commission extended LNP and thousands-block number pooling requirements to all carriers in the largest 100 MSAs, and gave non-compliant carriers six months from the effective date of the order to deploy LNP. This decision was driven by questions raised when certain state commissions began implementing thousands-block number pooling trials and discovered that some LECs had not deployed LNP in some of the largest 100 MSAs. Apparently, some carriers and state commissions differed on the current status of the LNP requirements. Specifically, they were not sure whether LNP is required for all carriers within the 100 largest MSAs, or only for those carriers that receive a request from a competing carrier. Thus, the Commission sought to clarify the issue.

3. In attempting to clarify the issue, however, the Commission reversed the decision on LNP deployment reached by the Commission in the Number Portability First Order on Reconsideration, 62 FR 18280 (April 15, 1997), without providing an adequate opportunity for comment on this specific issue. The Commission now reverses this clarification and provides interested parties an opportunity to comment on whether carriers should be required to deploy LNP and participate in thousands-block number pooling in the 100 largest MSAs, regardless of whether they have received a specific request to provide LNP from another carrier.

4. Pursuant to sections 1, 3, 4, 201-205, 251 of the Communications Act of 1934, as amended, 47 U.S.C. 151, 153, 154, 201-205, and 251, this Third Order on Reconsideration in CC Docket 99-200 is hereby adopted.

Federal Communications Commission.
William F. Caton,
Acting Secretary.

[FR Doc. 02-8249 Filed 4-4-02; 8:45 am]

BILLING CODE 6712-01-P